DEPARTMENT OF DEFENSE

GENERAL SERVICES ADMINISTRATION

NATIONAL AERONAUTICS AND SPACE ADMINISTRATION

[OMB Control No. 9000-0007: Docket No. 2018-0003; Sequence No. 6]

Information Collection; Subcontracting Plans

AGENCIES: Department of Defense (DOD), General Services Administration (GSA), and National Aeronautics and Space Administration (NASA).

ACTION: Notice and request for comments.

SUMMARY: In accordance with the Paperwork Reduction Act of 1995 and the Office of Management and Budget (OMB) regulations, the FAR Council invites the public to comment upon a renewal concerning small business subcontracting plans.

DATES: Submit comments on or before October 5, 2018.

ADDRESSES: The FAR Council invites interested persons to submit comments on this collection by either of the following methods:

• Federal eRulemaking Portal: This website provides the ability to type short comments directly into the comment field or attach a file for lengthier comments. Go to http://www.regulations.gov and follow the instructions on the site.

• Mail: General Services Administration, Regulatory Secretariat Division (MVCB), 1800 F Street NW, Washington, DC 20405. ATTN: Ms. Mandell/IC 9000-0007, Subcontracting Plans.

Instructions: All items submitted must cite Information Collection 9000-0007, Subcontracting Plans. Comments received in response to this docket will be made available for public inspection and posted without change, including any personal information, at http://www.regulations.gov. Comments received generally will be posted without change to http://www.regulations.gov, including any personal and/or business confidential information provided. To confirm receipt of your comment(s), please check www.regulations.gov, approximately two to three days after submission to verify posting (except allow 30 days for posting of comments submitted by mail). This information collection is pending at the FAR Council. The Council will submit it to OMB within 60 days from the date of this notice.

FOR FURTHER INFORMATION CONTACT: Ms. Zenaida Delgado, Procurement Analyst, at telephone 202-969-7207, or email zenaida.delgado@gsa.gov.

SUPPLEMENTARY INFORMATION:

A. Overview of Information Collection

Description of the Information Collection

1. Type of Information Collection: Revision/Renewal of a currently approved collection.

2. Title of the Collection—Subcontracting Plans.

3. Agency form number, if any: —— SF 294.

Solicitation of Public Comment

Written comments and suggestions from the public should address one or more of the following four points:

(1) Evaluate whether the collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

B. Purpose

This information collection requirement, OMB Control No. 9000-0007, currently titled “Summary Subcontract Report,” is proposed to be retitled “Subcontracting Plans,” due to consolidation with currently approved information collection requirement OMB Control No. 9000-0006, Subcontracting Plans/Individual Subcontract Report (SF 294) and ISRS, and 9000-0192, Utilization of Small Business Subcontractors.

This clearance covers the information that offerors and contractors must submit to comply with the requirements in Federal Acquisition Regulation (FAR) 52.219-9, Small Business Subcontracting Plans, regarding subcontracting plans as follows:

1. Subcontracting plan. In accordance with Section 8(d) of the Small Business Act (15 U.S.C. 637(d)), any contractor receiving a contract for more than the simplified acquisition threshold must agree in the contract that small business, veteran-owned small business, service-disabled veteran-owned small business, HUBZone small business, small disadvantaged business, and women-owned small business concerns will have the maximum practicable opportunity to participate in contract performance. Further, 15 U.S.C. 637(d) imposes the requirement that contractors receiving a contract that is expected to exceed, or a contract modification that causes a contract to exceed, $700,000 ($1.5 million for construction) and has subcontracting possibilities, shall submit an acceptable subcontracting plan that provides maximum practicable opportunities for small business, veteran-owned small business, service-disabled veteran-owned small business, HUBZone small business, small disadvantaged business, and women-owned small business concerns. Specific elements required to be included in the plan are specified in section 8(d) of the Small Business Act and implemented in FAR subpart 19.7 and the clause at 52.219-9.

2. Summary Subcontract Report (SSR). In conjunction with the subcontracting plan requirements, contractors with subcontracting plans must submit an annual summary of subcontracts awarded as prime and subcontractors for each specific Federal Government agency. Contractors submit the information in a SSR through the Electronic Subcontracting Reporting System (eSRS). This is required for all contractors with subcontracting plans regardless of the type of plan (i.e., commercial or individual).

3. Individual Subcontract Report (ISR). In conjunction with the subcontracting plan requirements, contractors with individual subcontracting plans must submit semi-annual reports of their small business subcontracting progress. Contractors submit the information through eSRS in an ISR, the electronic equivalent of the Standard Form (SF) 294, Subcontracting Report for Individual Contracts. Contracts that are not reported in the Federal Procurement Data System (FPDS) in accordance with FAR 4.606(c)(5) do not submit ISRs in eSRS; they will continue to use the SF 294 to submit the information to the agency.

4. Written explanation for not using a small business subcontractor as specified in the proposal or subcontracting plan. Section 1322 of the Small Business Jobs Act of 2010 (Jobs Act), Public Law 111-240, amends the Small Business Act (15 U.S.C. 637(d)(6)) to require as part of a subcontracting plan that a prime contractor make good faith effort to utilize a small business subcontractor during performance of a contract to the same degree the prime contractor relied on the small business in preparing and submitting its bid or proposal. If a prime contractor does not utilize a small business subcontractor as described above, the prime contractor is required to explain, in writing, to the contracting officer the reasons why it is unable to do so.

C. Annual Reporting Burden

1. Subcontracting plan. Subcontracting plans are provided on a contract-by-contract basis for individual subcontracting plans. Individual subcontracting plans cover the entire contract period, including options. Commercial plans are provided on an entity basis and cover the fiscal year of the contractor. The time required for development of the plan (including commercial and individual plans) is estimated as follows:

Respondents: 4,350.

Responses per Respondent: 1.

Total Annual Responses: 4,350.

Hours per Response: 5.

Total Burden Hours: 21,750.

2. Summary Subcontract Report (SSR). SSRs are submitted annually for all types of subcontracting plans. One SSR is submitted for each commercial subcontracting plan. For individual subcontracting plans, an SSR is required for every agency that funds work under the contract that the plan covers. Time required for reading, preparing information, and data entry into eSRS is estimated as follows:

Commercial plan

Respondents: 1,653.

Responses per Respondent: 1.

Total Annual Responses: 1,653.

Hours per Response: 2.

Total Burden Hours: 3,306.

Individual plan without order level reporting

Respondents: 10,885.

Responses per Respondent: 1.

Total Annual Responses: 10,885.

Hours per Response: 1.5.

Total Burden Hours: 16,327.5.

Individual plan with order level reporting

Respondents: 197.

Responses per Respondent: 3.

Total Annual Responses: 591.

Hours per Response: 1.5.

Total Burden Hours: 886.5.

3. Individual Subcontract Report (ISR). ISRs are submitted semi-annually for each contract with an individual subcontracting plan. The ISR consists of data for subcontracting under a given contract. ISRs are not required for commercial plans. Time required for reading, preparing information, and data entry into eSRS is estimated as follows:

Individual plan without order-level reporting requirement

Respondents: 10,855.

Responses per Respondent: 2.

Total Annual Responses: 21,710.

Hours per Response: 2.

Total Burden Hours: 43,420.

Individual plan—with order-level reporting requirement

Respondents: 197.

Responses per Respondent: 2.

Total Annual Responses: 394.

Hours per Response: 5.

Total Burden Hours: 1,970.

4. Written explanation for not using a small business subcontractor as specified in the proposal or subcontracting plan. This explanation is submitted on a contract-by-contract basis. FPDS for FY 2017 identified 3,808 contracts with individual subcontracting plans and 542 entities awarded contracts with commercial plans, for a total of 4,350 plans for FY 2017. We estimate that at most 50%, or 2,175, of these contracts with subcontracting plans may have instances of the prime contractor not using a small business subcontractor to the same extent used in preparing the bid or proposal. We estimate two hours as the average time required to read and prepare information for this collection.

Respondents: 2,175.

Responses per Respondent: 1.

Total Annual Responses: 2,175.

Hours per Response: 2.

Total Burden Hours: 4,350.

5. Summary.

Respondents: 30,312.

Total Annual Responses: 41,758.

Total Burden Hours: 92,010.

Obtaining Copies of Proposals: Requesters may obtain a copy of the information collection documents from the General Services Administration, Regulatory Secretariat Division (MVCB), 1800 F Street NW, Washington, DC 20405, telephone 202-501-4755.

Please cite OMB Control No. 9000-0007, Subcontracting Plans, in all correspondence.

William Clark,
Director, Office of Governmentwide Acquisition Policy, Office of Acquisition Policy, Office of Governmentwide Policy.

[FR Doc. 2018-16744 Filed 8-3-18; 8:45 am]

BILLING CODE 6820-EP-P